DEPARTMENT OF DEFENSE

Office of the Secretary

Submission for OMB Review; Comment Request

ACTION: Notice.

The Department of Defense has submitted to OMB for clearance, the following proposal for collection of information under the provisions of the Paperwork Reduction Act (44 U.S.C. Chapter 35).

Title and OMB Number: Customer Satisfaction Surveys—Generic; OMB Number 0730-0003.

Type of Request: Revision.

Number of Respondents: 15,000.

Responses Per Respondent: 1.

Annual Responses: 15,000.

Average Burden Per Response: 8 minutes.

Annual Burden Hours: 2,000.

Needs and Uses: The information collection requirement is necessary to determine the kind and quality of services that customers of the Defense Finance and Accounting Service (DFAS) want and expect, as well as their satisfaction with existing services. DFAS will conduct a variety of activities to include, but not necessarily limited to customer satisfaction surveys, transaction based telephone interviews, Interactive Voice Response Systems telephonic surveys, etc. The information collected provides information about customer perceptions and can help identify agency operations that need quality improvement, provide early detection of process or systems problems, and focus attention on areas where customer service and functional training or changes in existing operations will improve service delivery.

Affected Public: Individuals or Households; Business or Other For-Profit; Not-For-Profit Institutions; State, Local or Tribal Government.

Frequency: On Occasion.

Respondents's Obligation: Voluntary.

OMB Desk Officer: Mr. Edward C. Springer.

Written comments and recommendations on the proposed information collection should be sent to Mr. Springer at the Office of Management and Budget, Desk Officer for DOD, Room 10236, New Executive Office Building, Washington, DC 20503.

DoD Clearance Officer: Mr. Robert Cushing.

Written request for copies of the information collection proposal should be sent to Mr. Cushing, WHS/DIOR, 1215, Jefferson Davis Highway, Suite 1204, Arlington, VA 22202-4302.

Dated: April 11, 2001.
Patricia L. Toppings,
Alternate OSD Federal Register Liaison Officer, Department of Defense.

[FR Doc. 01-9540 Filed 4-17-01; 8:45 am]

BILLING CODE 50001-10-M